DEPARTMENT OF HEALTH AND HUMAN SERVICES

Food and Drug Administration

21 CFR Part 14

[Docket No. 00N-1634]

Public Hearing Before a Public Advisory Committee; Examination of Administrative Record and Other Advisory Committee Records; Withdrawal

AGENCY: Food and Drug Administration, HHS.

ACTION: Direct final rule; withdrawal.

SUMMARY: The Food and Drug Administration (FDA) published in the Federal Register of January 8, 2001, a proposed rule (66 FR 1276) and a direct final rule (66 FR 1257) to amend FDA regulations governing the public disclosure of written information for consideration by an advisory committee at an advisory committee meeting. The comment period closed March 26, 2001. FDA is withdrawing the direct final rule because the agency received significant adverse comment.

DATES: The direct final rule published in the Federal Register of January 8, 2001 (66 FR 1257), is withdrawn as of April 23, 2001.

FOR FURTHER INFORMATION CONTACT: Andrea C. Masciale, Center for Drug Evaluation and Research (HFD-7), Food and Drug Administration, 5600 Fishers Lane, Rockville, MD 20857, 301-594-2041.

Therefore, under the Federal Food, Drug, and Cosmetic Act, and under the authority delegated to the Commissioner of Food and Drugs, the direct final rule published in the Federal Register of January 8, 2001 (66 FR 1257), is withdrawn.

Dated: April 17, 2001.
Ann M. Witt,
Acting Associate Commissioner for Policy.

[FR Doc. 01-9950 Filed 4-20-01; 8:45 am]

BILLING CODE 4160-01-S